DEPARTMENT OF COMMERCE

National Oceanic and Atmospheric Administration

Affirmation of Vertical Datum for Surveying and Mapping Activities for the Islands of Rota, Saipan and Tinian of the Commonwealth of the Northern Mariana Islands (CNMI)

AGENCY: National Geodetic Survey (NGS), National Ocean Service (NOS), National Oceanic and Atmospheric Administration.

ACTION: Notice.

SUMMARY: This Notice announces a decision by the Federal Geographic Data Committee's Federal Geodetic Control Subcommittee, in accordance with the Office of Management and Budget, Circular A-16 (http://www.whitehouse.gov/omb/circulars/a016/a016.html), to affirm the Northern Marianas Vertical Datum of 2003 (NMVD 03) as the official civilian vertical datum for surveying and mapping activities for the islands of Rota, Saipan and Tinian of the Commonwealth of the Northern Marianas, and to the extent practicable, legally allowable and feasible, require that all Federal agencies, with the exception of those with specific military related applications, using or producing vertical height information undertake an orderly transition to NMVD 03.

DATES: Individuals or organizations wishing to submit comments on the adoption of NMVD 03 as the official civilian vertical datum for the Northern Marianas, should do so by February 23, 2009.

ADDRESSES: Written comments should be sent to the attention of David Doyle, Chief Geodetic Surveyor, Office of the National Geodetic Survey, National Ocean Service (N/NGS2), 1315 East-West Highway, #8815, Silver Spring, Maryland 20910, fax 301-713-4324, or via e-mail Dave.Doyle@noaa.gov.

FOR FURTHER INFORMATION CONTACT: Requests for additional information should be directed to David Doyle, Chief Geodetic Surveyor, National Geodetic Survey (N/NGS2), 1315 East-West Highway, #8815, Silver Spring, MD 20910; Phone: (301) 713-3178.

SUPPLEMENTARY INFORMATION: The National Ocean Service (NOS), National Geodetic Survey (NGS), has completed the definition and implementation of NMVD 03. NMVD 03 supersedes all previously published height systems determined by other Federal surveying and mapping agencies on Rota, Saipan and Tinian, with the exception of those specifically related to tidal datums and/or military applications. NMVD 03 heights are the result of a mathematical least squares general adjustment of the vertical control portion of the National Spatial Reference System (NSRS) and are derived from approximately 105 km of 1st-Oder, Class II geodetic leveling observations (15 km on Rota, 60 km on Saipan and 15 km on Tinian) undertaken specifically for this project. The basis for all NMVD 03 heights is Mean Sea Level, for the epoch 1983-2001, as determined by the NOS Center for Operational Oceanographic Products and Services (CO-OPS), and published for the National Water Levels Observation Network (NWLON) bench mark number 163 3227 UH-2C (1.657 meters), located in Tanapag Harbor.

NMVD 03 height information for individual geodetic control monuments is available in digital form, from the NGS Web site: http://www.ngs.noaa.gov/cgi-bin/datasheet.prl.

Dated: December 30, 2008.
David B. Zilkoski,
Director, National Geodetic Survey, National Ocean Service, National Oceanic and Atmospheric Administration.

[FR Doc. E9-1180 Filed 1-21-09; 8:45 am]

BILLING CODE 3510-JE-P